NUCLEAR REGULATORY COMMISSION

Notice of Sunshine Act Meetings

Agency Holding the Meetings: Nuclear Regulatory Commission.

Date: Weeks of June 19, 26, July 3, 10, 17, 24, 2006.

Place: Commissioners' Conference room, 11555 Rockville Pike, Rockville, Maryland.

Status: Public and Closed.

Matters to be Considered:

Week of June 19, 2006

Friday, June 23, 2006

9 a.m. Affirmation Session (Public Meeting) (Tentative).

a. AmerGen Energy Company, LLC (License Renewal for Oyster Creek Nuclear Generating Station) Docket No. 50-0219, Legal challenges to LBP-06-07 and LBP-06-11 (Tentative).

b. Nuclear Management Company, LLC (Palisades Nuclear Plant, license renewal application), Appeal by Petitioners of LBP-06-10 (ruling on standing, contentions, and other pending matters) (Tentative).

9:30 Discussion of Security Issues (Closed-Ex. 1).

Week of June 6, 2006—Tentative

There are no meetings scheduled for the Week of June 26, 2006.

Week of July 3, 2006—Tentative

There are no meetings scheduled for the Week of July 3, 2006.

Week of July 10, 2006—Tentative

There are no meetings scheduled for the Week of July 10, 2006.

Week of July 17, 2006—Tentative

There are no meetings scheduled for the Week of July 17, 2006.

Week of July 24, 2006—Tentative

Thursday, July 27, 2006

9:30 a.m. Briefing on Office of International Programs (OIP) Programs, Performance, and Plans (Public Meeting) (Contact: Karen Henderson, 301-415;-0202). This meeting will be Webcast live at the Web address— http://www.nrc.gov.

1:30 p.m Briefing on Equal Employment Opportunity (EEO) Programs. (Public Meeting) (Contact: Barbara Williams, 301-415-7388). This meeting will be Webcast live at the Web address— http://www.nrc.gov.

* * * * *

*The schedule for Commission meetings is subject to change on short notice. To verify the status of meetings call (recording)—(301) 415-1292. Contact person for more information: Michelle Schroll, (301) 415-1662.

* * * * *

*The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g., braille, large print), please notify the NRC's Disability Program Coordinator, Deborah Chan, at 301-415-7041, TDD: 301-415-2100, or by e-mail at DLC@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: June 15, 2006.
R. Michelle Schroll,
Office of the Secretary.

[FR Doc. 06-5545 Filed 6-16-06; 10:34 am]

BILLING CODE 7590-01-M